DEPARTMENT OF COMMERCE

International Trade Administration

[A-533-824]

Polyethylene Terephthalate Film, Sheet, and Strip from India: Final Results of Antidumping Duty Administrative Review; 2019-2020

AGENCY: Enforcement and Compliance, International Trade Administration, Department of Commerce.

SUMMARY: On August 4, 2021, the Department of Commerce (Commerce) published the preliminary results of the administrative review of the antidumping duty order on polyethylene terephthalate film, sheet, and strip (PET film) from India. The period of review (POR) is July 1, 2019, through June 30, 2020. We received no comments or requests for a hearing. We continue to find that sales of subject merchandise by Jindal Poly Films Limited (Jindal) and SRF Limited of India (SRF) were not made at less than normal value during the POR.

DATES: Applicable February 1, 2022.

FOR FURTHER INFORMATION CONTACT: Jacqueline Arrowsmith, AD/CVD Operations, Office VII, Enforcement and Compliance, International Trade Administration, U.S. Department of Commerce, 1401 Constitution Avenue NW, Washington, DC 20230; telephone: (202) 482-5255.

SUPPLEMENTARY INFORMATION:

Background

On August 4, 2021, Commerce published the preliminary results for this administrative review.¹ In the Preliminary Results, we invited interested parties to comment within 30 days. The petitioners ² also requested an extension of the briefing schedule on August 25, 2021.³ Commerce issued a memorandum to all interested parties on August 27, 2021, which granted the petitioners' request and stated that we would reset the deadlines to submit case briefs on a later date.⁴ On September 1, 2021, we issued a supplemental questionnaire to SRF.⁵ On September 10, 2021, we issued a supplemental questionnaire to Jindal.⁶ On September 16, 2021, SRF submitted its response to our supplemental questionnaire.⁷ On September 24, 2021, Jindal submitted its response to our supplemental questionnaire.⁸ On November 18, 2021, Commerce extended these final results and then on November 23, 2021, Commerce established the revised deadlines for the briefing schedule.⁹ No interested party submitted comments or requested a hearing in this administrative review. The current deadline for these final results is January 28, 2022. Commerce conducted this administrative review in accordance with section 751(a)(1)(B) of the Tariff Act of 1930, as amended (the Act).

¹ See Polyethylene Terephthalate Film, Sheet, and Strip from India: Preliminary Results and Partial Rescission of Antidumping Duty Administrative Review; 2019-2020, 86 FR 41949 (August 4, 2021) (Preliminary Results) and accompanying Preliminary Decision Memorandum (PDM).

² The petitioners are DuPont Teijin Films; Mitsubishi Polyester Film, Inc.; and SKC, Inc.

³ See Petitioners' Letter, “Polyethylene Terephthalate (PET) Film, Sheet, and Strip from India: Request for Extension of Briefing Schedule,” dated August 25, 2021.

⁴ See Memorandum, “2019-2020 Antidumping Duty Administrative Review of Polyethylene Terephthalate (PET) Film, Sheet, and Strip from India,” dated August 27, 2021.

⁵ See Commerce's Letter, “2019-2020 Administrative Review of the Antidumping Duty Order on Polyethylene Terephthalate Film, Sheet and Strip (PET Film) from India: Supplemental Questionnaire,” dated September 1, 2021.

⁶ See Commerce's Letter, “2019-2020 Administrative Review of the Antidumping Duty Order on Polyethylene Terephthalate Film, Sheet and Strip (PET Film) from India: Supplemental Questionnaire,” dated September 10, 2021.

⁷ See SRF's Letter, “Polyethylene Terephthalate (PET) Film from India: Submission of 1st Supplemental Response of Anti-dumping Admin Review Questionnaire,” dated September 16, 2021 (SRF's September 16, 2021 SQR).

⁸ See Jindal's Letter, “2019-2020 Administrative Review of the Ani-Dumping Duty Order on Polyethylene Terephthalate Film, Sheet and Strip (PET Film) from India: Supplemental Questionnaire Response,” dated September 24, 2021.

⁹ See Memorandum, “Polyethylene Terephthalate Film, Sheet, and Strip (PET Film) from India—Briefing,” dated November 18, 2021.

Scope of the Order ¹⁰

¹⁰ See Notice of Amended Final Determination of Sales at Less Than Fair Value and Antidumping Duty Order: Polyethylene Terephthalate Film, Sheet, and Strip from India, 67 FR 44175 (July 1, 2002) (Order).

The products covered by the Order are all gauges of raw, pretreated, or primed PET film, whether extruded or coextruded. Excluded are metalized films and other finished films that have had at least one of their surfaces modified by the application of a performance-enhancing resinous or inorganic layer of more than 0.00001 inches thick. Imports of polyethylene terephthalate film, sheet, and strip are currently classifiable in the Harmonized Tariff Schedule of the United States (HTSUS) under item number 3920.62.00.90. HTSUS subheadings are provided for convenience and customs purposes. The written description of the scope of the Order is dispositive.

Changes Since the Preliminary Results

As noted above, Commerce received no comments concerning the Preliminary Results. Jindal submitted corrected information for a movement charge, which had been inadvertently omitted in its prior filings.¹¹ Also, in response to instructions from Commerce, Jindal separated information for discounts and rebates that were grouped together.¹² We incorporated these corrections and updated information into these final results; we continue to find that sales of subject merchandise by Jindal were not made at less than normal value during the POR. SRF submitted corrected information for its quantity discount as explained in its supplemental questionnaire.¹³ We also incorporated the corrections and updated information into these final results; we also continue to find that sales of subject merchandise made by SRF were not made at less than normal value during the POR. Accordingly, no decision memorandum accompanies this Federal Register notice. For further details of the issues addressed in this proceeding, see the Preliminary Results and the accompanying Preliminary Decision Memorandum.¹⁴

¹¹ See Memorandum, “Jindal's Final Analysis Memorandum,” dated concurrently with the signature of this Federal Register notice.

¹² See Jindal's Letter, “2019-2020 Administrative Review of the Ani-Dumping Duty Order on Polyethylene Terephthalate Film, Sheet and Strip (PET Film) from India: Supplemental Questionnaire Response,” dated September 24, 2021.

¹³ See SRF's September 16, 2021 SQR at 7-8. See also Memorandum, “SRF's Final Analysis Memorandum,” dated concurrently with the signature of this Federal Register notice.

¹⁴ See Preliminary Results PDM.

Final Results of Review

The final weighted-average dumping margins for the period July 1, 2019, through June 30, 2020, are as shown below:

Manufacturer/exporter | Weighted-average margin (percent)
Jindal Poly Films Ltd | 0.00
SRF Limited of India | 0.00

Assessment Rates

Commerce will determine, and CBP shall assess, antidumping duties on all appropriate entries in this review, in accordance with section 751(a)(2)(C) of the Act and 19 CFR 351.212(b)(1). Because we calculated a zero margin in the final results of this review for both Jindal and SRF, in accordance with 19 CFR 351.212, we will instruct CBP to liquidate the appropriate entries without regard to dumping duties.

Commerce intends to issue appropriate assessment instructions directly to CBP no earlier than 35 days after the date of publication of the final results of this administrative review. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this administrative review for all shipments of the subject merchandise entered, or withdrawn from warehouse, for consumption on or after the publication date, as provided for by section 751(a)(2)(C) of the Act: (1) The cash deposit rate for Jindal and SRF will both be zero, the rate established in the final results of this review; (2) for previously reviewed or investigated companies not covered in this review, the cash deposit rate will continue to be the company-specific rate published for the most recent period; (3) if the exporter is not a firm covered in this or any previous review or in the original less-than-fair-value (LTFV) investigation but the manufacturer is, the cash-deposit rate will be the rate established for the most recent period for the manufacturer of the merchandise; and (4) if neither the exporter nor the manufacturer is a firm covered in this or any previous review or the investigation, the cash-deposit rate will continue to be the all-others rate of 5.71 percent, which is the all-others rate established by Commerce in the LTFV investigation.¹⁵ These cash deposit requirements, when imposed, shall remain in effect until further notice.

¹⁵ See Order; see also Final Determination of Sales at Less Than Fair Value: Polyethylene Terephthalate Film, Sheet, and Strip (PET Film) from India, 67 FR 34899 (May 16, 2002).

Reimbursement of Duties

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Orders

This notice also serves as a reminder to parties subject to administrative protective order (APO) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation, which is subject to sanction.

Notification to Interested Parties

We are issuing and publishing these final results of administrative review in accordance with sections 751(a) and 777(i)(1) of the Act and 19 CFR 351.221(b)(5).

Dated: January 26, 2022.
Lisa W. Wang,
Assistant Secretary for Enforcement and Compliance.

[FR Doc. 2022-01960 Filed 1-31-22; 8:45 am]

BILLING CODE 3510-DS-P